DEPARTMENT OF COMMERCE

National Institute of Standards and Technology

Proposed Information Collection; Comment Request; Program Evaluation Data Collections

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506© (2)(A)).

DATES: Written comments must be submitted on or before May 6, 2003.

FOR FURTHER INFORMATION CONTACT: Requests for additional information or copies of the information collection instrument(s) and instructions should be directed to Phyllis Boyd, National Institute of Standards and Technology, 100 Bureau Drive, Stop 3220, Gaithersburg, MD, 20899-3220, (301) 975-4062.

SUPPLEMENTARY INFORMATION:

I. Abstract

In accordance with Executive Order 12862, the National Institute of Standards and Technology (NIST), a non-regulatory agency of the Department of Commerce, proposes to conduct a number of surveys—both quantitative and qualitative—designed to evaluate our current programs from a customer perspective. NIST proposes to perform program evaluation data collections by means of, but not be limited to, focus groups, reply cards that accompany product distributions, and web-based surveys and dialogue boxes that offer customers the opportunity to express their views on the programs they are asked to evaluate. NIST will limit its inquiries to data collections that solicit strictly voluntary opinions and will not collect information that is required or regulated. Steps will be taken to assure anonymity of respondents in each activity covered under this request.

II. Method of Collection

NIST will collect this information by mail, fax, electronically, telephone, and person-to-person sessions.

III. Data

OMB Number: 0693-0033.

Form Number: None.

Type of Review: Regular submission.

Affected Public: Business or for-profit organizations, not-for profit institutions, individuals or households.

Estimated Number of Respondents: 12,000.

Estimated Time Per Response: Varied, dependent upon the data collection. The response time may vary from two minutes for a response card to two hours for focus group participation. The average response time is expected to be 30 minutes.

Estimated Total Annual Burden Hours: 3,022.

Estimated Total Annual Cost: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including automated collection techniques or other forms of information technology.

Comments submitted in response to this notice will be summarized and included in the request for OMB approval of this information collection. They also will become a matter of public record.

Dated: March 3, 2003.
Gwellnar Banks,
Management Analyst, Office of the Chief Information Officer.

[FR Doc. 03-5362 Filed 3-6-03; 8:45 am]

BILLING CODE 3510-13-P